DEPARTMENT OF HOUSING AND URBAN DEVELOPMENT

[Docket No. FR-4800-FA-11]

Announcement of Funding Awards Fair Housing Initiatives Program Fiscal Year 2003

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department for funding under the SuperNotice of Funding Availability (SuperNOFA) for the Fair Housing Initiatives Program (FHIP) for Fiscal Year (FY) 2003. This announcement contains the names and addresses of those award recipients selected for funding based on the rating and ranking of all applications and the amount of the awards.

FOR FURTHER INFORMATION CONTACT: Myron Newry, Director, FHIP Support Division, Office of Programs, Room 5230, 451 Seventh Street, SW., Washington, DC 20410. Telephone number (202) 708-2215 (this is not a toll-free number). A telecommunications device (TTY) for hearing or speech-impaired persons is available at 1-800-877-8339 (this is a toll-free number).

SUPPLEMENTARY INFORMATION: Title VIII of the Civil Rights Act of 1968, as amended, 42 U.S.C. 3601-19 (the Fair Housing Act) charges the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established the FHIP to strengthen the Department's enforcement of the Fair Housing Act and to further fair housing. This program assists projects and activities designed to enhance compliance with the Fair Housing Act and substantially equivalent State and local fair housing laws. Implementing regulations are found at 24 CFR Part 125. The Department announced in the Federal Register on April 25, 2003 (68 FR 21001-21082 and 21195-21240), the availability of approximately $17,618,375 out of an appropriation of $20,118,375 and any potential recapture, to be utilized for the FHIP projects and activities through the Education and Outreach Initiative (EOI), including an EOI—National Program—Model Codes Partnership Component (MCPC), the Private Enforcement Initiative (PEI), and the Fair Housing Organizations Initiative (FHOI). The remaining approximately $2,500,000 is designated “for contracts, including the continuation of activities for the third option year under the Project for Training and Technical Assistance Guidance (PATTG) [announced under a previous solicitation] and in furtherance of fair housing education and outreach to meet HUD's Minority Serving Institution (MSI) goals. The funds to further the Department's goals to work with MSIs will be announced under a separate solicitation.” This Notice was amended on June 17, 2003 (68 FR 36426-36444) to make certain technical corrections.

This Notice announces the award of approximately $18,534,463.78 in grants to 120 organizations and $1,400,000.00 in a contract to 1 organization.

The Department reviewed, evaluated and scored the applications received based on the criteria in the fiscal year 2003 SuperNOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: August 10, 2006.
Bryan Greene,
Deputy Assistant Secretary for Enforcement and Programs.

Appendix A
Applicant name | Contact person | Region | Award amount
Fair Housing Initiatives Program Awards FY 2003
Education and Outreach Initiative/General Component
Pro-Home, Inc., 45 School Street, Taunton, MA 02780 | Mary Ellen Rochette, (508) 821-1092 | 1 | $45,076.80
HAP, Inc., 322 Main Street, Springfield, MA 01105 | Carol B. Walker, (413) 233-1668 | 1 | 79,996.00
Champlain Valley Office of Economic Opportunity, 191 North Street, Burlington, VT 05402 | Robert Meehan, (802) 651-0551 | 1 | 79,692.00
New Jersey Department of Community Affairs, P.O. Box 806, 101 South Broad Street, Trenton, NJ 08625 | Sheri Malnak, (609) 984-8453 | 2 | 79,667.20
Westchester Residential Opportunities, Inc., 470 Mamaroneck Avenue, Ste. 410, White Plains, NY 10605 | Ann Seligsohn, (914) 428-4507 | 2 | 79,974.40
Housing Council in the Monroe County Area, Inc., 183 East Main Street, Ste. #1100, Rochester, NY 14604 | Anne S. Peterson, (585) 546-3700 | 2 | 79,984.00
Neighborhood Economic Development Advocacy Project, 73 Spring Street, Ste. 506, New York, NY 10012 | Sarah Ludwig, (212) 680-5100 | 2 | 80,000.00
NJ Citizens Action, 400 Main Street, Hackensack, NJ 07601 | Phyllis Salowe-Kaye, (201) 488-2804 | 2 | 80,000.00
HELP Social Service Corporation, 30 E. 33rd Street, 9th Floor, New York, NY 10016 | Ronnie Silverman, (212) 779-3350 | 2 | 80,000.00
AAFE Community Development Fund, Inc., 111 Division Street, New York, NY 10016 | Siu-Kwan Chan, (212) 964-2288 | 2 | 80,000.00
Delaware Community Reinvestment Action Council, Inc., 601 N Church Street, Wilmington, DE 19801 | Rashmi Rangan, (302) 654-5024 | 3 | 51,200.00
St. Martins Center, Inc., 1701 Parade Street, Erie, PA 16503 | David J. Pesch, (814) 452-6113 x 27 | 3 | 54,400.00
United Neighborhood Center of Lackawanna County, Inc., 425 Alder Street, Scranton, PA 18505 | Michal J. Hanley, (570) 346-0759 | 3 | 59,698.74
Piedmont Housing Alliance, 2000 Holiday Drive, Ste. 200, Charlottesville, VA 22902 | Karen Klick, (434) 817-2436 | 3 | 62,559.19
Harford County Maryland, 220 S Main Street, Bel Air, MD 21014 | Mary Lobo-Dorsey, (410) 638-3329 | 3 | 77,712.80
Fair Housing Council of Suburban Philadelphia, Inc., 225 S Chester Road, Ste. 1, Swarthmore, PA 19081-1919 | James Berry, (610) 604-4411 | 3 | 79,986.40
ACORN Fair Housing, 739 8th Street, S.E., Washington, DC 20003 | Carolyn Carr, (202) 547-2500 | 3 | 79,988.00
LCCR Education Fund, 1629 K Street, NW., 10th Floor., Washington, DC 20006 | Karen McGill-Lawson, (202) 466-3311 | 3 | 79,998.40
ACORN Institute, Inc, 1024 Elysian Fields Avenue, New Orleans, LA 70117 | Carolyn Carr, (202) 547-250 | 4 | 79,896.80
Fair Housing Agency of Alabama, 1111 E Interstate 65, Mobile, AL 36606 | Enrique L. Lang, (251) 471-9333 | 4 | 78,324.00
Housing Education and Economic Development, 3405 Medgar Evers Blvd., Jackson, MS 39213 | Charles Harris, (601) 981-1960 | 4 | 79,080.00
City of Savannah, P.O. Box 1027, 2203 Abercom Street, Savannah, GA 31042 | Michael B. Brown, (912) 651-6415 | 4 | 79,999.20
City of Chattanooga, 100 E. 11th Street, Ste. 104, Chattanooga, TN 37402 | Mary Simons, (423) 757-5093 | 4 | 80,000.00
Housing Rights Center of Wake County, Inc., P.O. Box 1800, 3948 Browning Place, Ste. 210, Raleigh, NC 27602 | David West, (919) 247-9695 | 4 | 80,000.00
Greenville County Human Relations Commission, 301 University Ridge, Ste. 1600, Greenville, SC 29601 | Sharon Smathers, (864) 467-7095 | 4 | 80,000.00
City of Memphis, 701 North Main Street, Memphis, TN 38107 | Robert Lipscomb, (901) 576-7307 | 4 | 80,000.00
Latinos United, 36 S Wabash, Ste. 1325, Chicago, IL 60603 | Juanita Irizarry, (312) 782-7500 | 5 | 79,220.88
Minneapolis Urban League, 2100 Plymouth Avenue North, Minneapolis, MN 55411 | David Oguamanam, (612) 302-3103 | 5 | 79,240.00
Housing Advocates, Inc., 3755 Prospect Avenue, Cleveland, OH 44115 | Edward G. Kramer, (216) 391-5444 | 5 | 80,000.00
Acorn Housing Corporation, 757 Raymond Avenue #200, St. Paul, MN 55114 | Jordan Ash, (651) 203-0008 | 5 | 80,000.00
Interfaith Housing Center of The Northern Suburbs, 620 Lincoln Avenue, Winnetka, IL 60096-2308 | Gail Schechter, (847) 501-5760 | 5 | 80,000.00
Housing Partners of Tulsa, Inc., P.O. Box 6369, Tulsa, OK 74148 | George Sanderson, (918) 581-5709 | 6 | 69,974.24
Tarrant County, 1509 B S University Drive, Ste. 276, Fort Worth, TX 76107 | Patricia Ward, (817) 338-9129 | 6 | 73,936.80
City of Sante Fe, P.O. Box 909, Sante Fe, NM 87504 | Alexandra Ladd, (505) 955-6567 | 6 | 79,840.00
ACORN Community Land Association of LA, 1024 Elysian Fields Avenue, New Orleans, LA 70117 | Beulah Labostrie, (504) 943-0044 | 6 | 80,000.00
Kansas Legal Services, Inc., 712 S Kansas Avenue, Ste. 200, Topeka, KS 66603 | Wayne A. White, (785) 233-2068 | 7 | 52,581.69
High Plains Community Development Corp. Inc., 130 East 2nd Street, Chadron, NE 69337 | Marquerite Vey-Miller, (308) 432-4346 | 7 | 58,652.00
Iowa Civil Rights Commission, Grimes Bldg. 400 E 14th, Des Moines, IA 50309 | Ron Pothas, (515) 281-8084 | 7 | 79,632.80
Urban League of Wichita, Inc., 1802 East 13th, Wichita, KS 67214 | Prentice Lewis, (316) 262-2463 | 7 | 80,000.00
Colorado Coalition for the Homeless, 2111 Champa Street, Denver, CO 80205 | John Pervensky, (303) 293-2217 | 8 | 80,000.00
Silver State Fair Housing Council, P.O. Box 3935, Reno, NV 89505 | Katherine K. Copeland, (776) 324-0990 | 9 | 80,000.00
Legal Services of Northern California, Inc., 619 North Street, Woodland, CA 95695 | John Gianola, (530) 662-1065 | 9 | 80,000.00
Consumer Credit Counseling of Central Valley, 4969 E McKinley Avenue, Ste. 107, Fresno, CA 93727 | Martha Lucey, (559) 454-1700 x 101 | 9 | 80,000.00
Legal Aid Services of Oregon, 700 SW Taylor Street, Ste. 310, Portland, OR 97205 | Thomas Matsuda, (503) 471-1159 | 10 | 79,727.20
Idaho Legal Aid Services, Inc., P.O. Box 913, 310 N 5th Street, Boise, ID 83701-0913 | Ernesto G. Sanchez, (208) 336-8980 x 109 | 10 | 80,000.00
Fair Housing Center of Puget Sound, 517 South Fawcett, Ste. 250, Tacoma, WA 98402 | Lauren Walker, (253) 274-9523 | 10 | 80,000.00
Education and Outreach Initiative/Disability Component
Vermont Center for Independent Living, 11 East State Street, Montpelier, VT 05602 | Janet Dermody, (802) 229-0501 | 1 | 65,336.80
Bronx Independent Living Services, Inc., 3225 Decatur Avenue, Bronx, NY 10467 | Barbara Linn, (718) 515-2800 | 2 | 100,000.00
Community Health Law Project, 185 Valley Street, South Orange, NJ 07079 | Harold Garwin, (973) 275-1175 | 2 | 100,000.00
University of Southern Mississippi Research & Sponsored Program, P.O. Box 5157, Jacksonville, MS 39211 | Dr. Royal P. Walker, (601) 432-6261 | 4 | 100.000.00
Progress Center for Independent Living, 7521 Madison Street, Forest Park, IL 60130 | Diane Coleman, (708) 209-1500 | 5 | 100,000.00
Accessible Communities, Inc., 1537 Seventh Street, Corpus Christi, TX 7804 | Judy Teige, (361) 883-8461 | 6 | 100,000.00
Protection and Advocacy System, 1720 Louisiana NE, #204 Albuquerque, NM 87110 | Bernadine Chavez (505) 256-3100 | 6 | 100,000.00
Mental Health Advocacy Services, Inc., 3255 Wilshire Blvd., #902, Los Angeles, CA 90010 | James Pries (213) 389-2077 | 9 | 95, 000.00
Education and Outreach Initiative/Fair Housing and Minority Homeownership Component
The Buffalo Urban League, 15 E. Genessee Street, Buffalo, NY 14203 | Harold Garwin, (973) 275-1175 | 2 | 100,000.00
Office of Human Affairs, P.O. Box 37, 2410 Wickham, Avenue, Newport News, VA 23607 | Robert Ayers, (757) 247-0379 x 328 | 3 | 67,567.59
DC Department of Housing and Community Development, 801 North Capitol Street, NE., Washington, DC 20002 | Sonia P. Gutierrez, (202) 442-7203 | 3 | 100,000.00
Crawford-Sebastian Community Development Council, 4831 Armour Street, Fort Smith, AR 72914 | Karen Phillips | 3 | 29,045.95
Arkansas Community Housing Corp., 2101 South Main Street, Little Rock, AR 72206 | Dickson Bell, (501) 374-2114 | 6 | 100,000.00
Urban League of Metropolitan St. Louis, Inc., 3701 Grandel Square, St. Louis, MO 63108 | Brenda Wrench, (314) 615-3635 | 7 | 100,000.00
Education and Outreach Initiative/Hispanic Fair Housing Awareness Component
Consumer Credit Counseling of Kern County, 5300 Lennox Avenue, Ste. 200, Bakersfield, CA 93309 | Katy Hudson, (661) 324-4140 | 9 | 56,000.00
ACORN Housing Corporation of AZ, 1018 West Roosevelt, Phoenix, AZ 85007 | Blanca Cordova, (602) 253-1111 | 9 | 95,000.00
LA Raza Centro Legal, Inc., 474 Valencia Street, Ste. 295, San Francisco, CA 94103 | Anamaria Loya, (415) 255-7593 | 9 | 100,000.00
Fair Housing Council of San Diego, 625 Broadway #1114, San Diego, CA 92101 | Mary Scott Knoll, (619) 699-5888 x203 | 9 | 100,000.00
Fair Housing Organization Initiative/Establishing New Organizations Component
Fair Housing Council of Suburban, Philadelphia, Inc., 225 S Chester Road, Ste. 1, Swarthmore, PA 19001-1919 | James Berry, (610) 604-4411 | 3 | 1,050,000.00
Fair Housing Continuum, Inc., 840 N Cocoa Blvd. Suite F, Cocoa, FL 32922 | David Baade, (321) 633-4551 | 4 | 1,050,000.00
Private Enforcement Initiative
Connecticut Fair Housing Center, Inc., 221 Main Street, Hartford, CT 06106 | Erin Kemple, (860) 247-4000 | 1 | 203,252.79
Fair Housing Center of Greater, Boston, 59 Temple Place, Ste. 1105, Boston, MA 02111 | David Harris, (617) 399-0491 | 1 | 206,486.04
Housing Discrimination Project, 57 Suffolk Street, Holyoke, MA 01404 | Jamie Williamson, (413) 539-9796 | 1 | 206,489.79
Fair Housing Council of Central New York, 327 W. Fayette Street, Syracuse, NY 13202 | Merrilee Witheren, (315) 471-0420 | 2 | 132,065.96
South Brooklyn Legal Services, 105 Court Street, Brooklyn, NY 11201 | Josh Zinner, (718) 237-5500 | 2 | 135,239.79
Long Island Housing Services, Inc., Suite 251, 3900 Veterans Memorial Hwy, Bohemia, NY 11716 | Michelle Santantonio, (631) 467-5111 | 2 | 204,239.79
Fair Housing Council of Northern, New Jersey, 131 Main Street, Hackensack, NJ 07601 | Lee Porter, (201) 489-3552 | 2 | 206,489.79
Legal Aid of Monroe County Area, Inc., 80 St. Paul Street, Ste. 700 Rochester, NY 14604 | Laurie Lambrix, (585) 325-2520 | 2 | 206,489.79
Housing Opportunities of Northern Delaware, 100 W 10th Street, Ste. #1004, Wilmington, DE 19801 | Gladys Spikes, (302) 429-0794 | 3 | 112,739.79
Housing Partnership of Greater Pittsburgh, Conestoga Building, 7 Wood Street, Suite 602, Pittsburgh, PA 15222 | Marian Kent, (412) 391-2535 | 3 | 203,821.29
National Community Reinvestment Coalition, 733 15th Street, NW #540, Washington, DC 20005 | David Berenbaum, (202) 628-8866 | 3 | 206,156.04
Fair Housing Council of Montgomery County, 105 E Glenside Avenue, Glenside, PA 19038 | Elizabeth Albert, (215) 576-7711 | 3 | 206,489.79
Bay Area Legal Services, Inc., 2nd Floor, 829 W. Dr. Martin Luther King Blvd., Hillsborough, FL 33603 | Richard C. Woltmann, (813) 232-1343 | 4 | 128,846.79
Lexington Fair Housing Council, Inc., 205 E. Reynolds Road, Suite E, Lexington, KY 40517 | Arthur Crosby, (859) 971-8067 | 4 | 178,000.29
Mobile Fair Hosing Center, Inc., P.O. Box 161202, 600 Bel-Air Blvd., Ste. 112, Mobile, AL 36616-2202 | Teresa F. Bettis, (251) 479-1532 | 4 | 194,851.92
North Delta MS Enterprise Community, P.O. Box 330, Sardis, MS 38666 | Robert Avant, (662) 487-1968 | 4 | 200,732.04
Central Alabama Fair Housing Center, 725 Montgomery Street, Ste. 725, Montgomery, AL 36104 | Faith R. Cooper, (334) 263-4563 | 4 | 205,739.79
Jacksonville Area Legal Aid, Inc., 126 West Adams Street, Jacksonville, FL 32202 | Michael G. Figgins, (904) 356-8371 | 4 | 206,417.79
Kentucky Fair Housing Council, 436 S 7th Street, Suite 201, Louisville, KY 40203 | Galen Martin, (502) 583-3247 | 4 | 206,484.17
Fair Housing Center of Northern Alabama, 1728 3rd Avenue North, 400C, Birmingham, AL 35203 | Lila E. Hackett, (205) 324-0111 | 4 | 206,489.79
Fair Housing Continuum, Inc., 840 N Cocoa Blvd., Ste. F, Cocoa, FL 32922 | David Baade, (321) 633-4551 | 4 | 206,489.79
West Tennessee Legal Services, Inc., 27 Brentshire Square, Ste. A, Jackson, TN 38305 | Carol Gish, (901) 482-5858 | 4 | 206,489.79
Tennessee Fair Housing Counsel, 719 Thompson Lane, Ste. 200, Nashville, TN 37204 | Tracey McCartney, (615) 383-6155 | 4 | 179,712.00
Legal Services of Eastern Michigan, 436 S Saginaw Street, Flint, MI 48502 | Patricia Baird, (810) 234-2621 | 5 | 161,438.04
South Suburban Housing Center, 18220 Harwood Avenue, Ste. 1, Homewood, IL 60430 | John R. Petruszak, (709) 957-4674 | 5 | 177,239.79
Chicago Lawyers' Committee, 100 N Lasalle Street, Ste. 600, Chicago, IL 60602 | Sharon Legenza, (312) 630-9744 | 5 | 206,222.79
Housing Opportunities Made Equal of Cincinnati, 2400 Reading Road, Ste. 109, Cincinnati, OH 45202-1429 | Karla Irvine, (513) 721-4663 | 5 | 206,357.04
Miami Valley Fair Housing Center, Inc., 21-23 East Babbitt Street, Dayton, OH 45405-4968 | Jim McCarthy, (937) 223-6035 | 5 | 206,488.29
Access Living of Metropolitan Chicago, 614 West Roosevelt Road Chicago, IL 60607 | Lauren Holhut, (312) 253-7000 | 5 | 206,489.79
HOPE Fair Housing Center, 2100 Manchester Road, Ste. 1070-B, Wheaton, IL 60187 | Bernard D. Kleina, (630) 690-6500 | 5 | 206,468.04
Legal Aid Society Of Minneapolis, 430 1st Avenue North, Ste. 300, Minneapolis, MN 53621 | Lisa Cohen, (612) 746-3702 | 5 | 206, 489.79
Metropolitan Milwaukee Fair Housing Council, Inc., 600 East Mason, Suite 200, Milwaukee, WI 53202 | William Tisdale, (414) 278-1240 | 5 | 206,489.79
Fair Housing Contact Service, 333 South Main Street, Akron, OH 44308 | Lynn M. Clark, (330) 376-6191 | 5 | 206,489.79
Leadership Council for Metropolitan Open Communities, 111 West Jackson Blvd, 12th Floor, Chicago, IL 60604 | Mary A Davis, (312) 341-5678 | 5 | 206,489.79
Fair Housing Resource Center, Inc., 54 South State Street, Ste. 303, Painesville, OH 44077 | Patricia A. Kidd, (440) 392-0147 | 5 | 206,489.79
Fair Housing Center, 1000 Monroe Street, #4, Toledo, OH 43624-1954 | Ricardo King, (419) 243-6163 | 5 | 206,489.79
Housing Research & Advocacy Center, 3631 Perkins Avenue, Cleveland, OH 44114-4705 | Charles H. Bromley, (216) 361-9240 | 5 | 206,489.79
Austin Tenants Council, 1619 E. Cesar Chavez Street, Austin, TX 78702 | Katherine Stark, (515) 474-7007 | 6 | 195,503.79
San Antonio Fair Housing Council, Inc., 4414 Centerview Drive, Ste. 170, San Antonio, TX 78228 | Sandra Tamez, (210) 733-3247 | 6 | 204,173.04
Greater Houston Fair Housing Center, Inc., 1900 Kane, Room 111, Houston, TX 77007 | Daniel Bustamante, (713) 641-3247 | 6 | 206,106.54
Family Housing Advisory Services, Inc., 2505 24th Street, Ste. 218, Omaha, NE 68110 | Jill Fenner, (402) 934-6675 | 7 | 206,462.04
Metropolitan St. Louis Equal Housing Opportunity, 1027 S Vandevender Avenue, 4th Flr., St. Louis, MO 63110 | Will Jordon, (314) 534-5800 | 7 | 206,489.79
Fair Housing Council of Orange County, Inc., 201 South Broadway, Santa Ana, CA 92701 | David Levy, (714) 569-0823 | 9 | 159,240.00
Inland Fair Housing and Mediation Board, 1005 Begonia Avenue, San Bernardino, CA 91762 | Lynne Anderson, (909) 984-2254 | 9 | 178,203.00
Sentinel Fair Housing, 510 16th Street, Ste. 560, Oakland, CA 94612 | Mona Breed, (510) 836-2687 x 308 | 9 | 205,830.00
Southwest Fair Housing Council, 2030 E Broadway, Ste. 101, Tucson, AZ 85719 | Richard Rhey, (520) 798-1568 | 9 | 205,964.00
California Rural Legal Assistance, Inc., 631 Howard Street, Ste. 300, San Francisco, CA 94105 | Ilene Jacobs, (530) 742-7235 | 9 | 206,490.00
Project Sentinel, 430 Sherman Avenue, Ste. 308, Palo, CA 94306 | Ann Marquart, (650) 321-6291 | 9 | 206,490.00
Fair Housing of Marin, 615 B Street, San Rafael, CA 94901 | Nancy Kenyon, (415) 457-5025 | 9 | 206,490.00
Arizona Fair Housing Center, 615 N 5th Avenue, Phoenix, AZ 85003 | Edward Valenzuela, (602) 548-1599 | 9 | 206,489.00
Bay Area Legal Aid, 405 14th Street, 9th Floor, Oakland, CA 94612 | Jean Crawford, (408) 283-3700x 417 | 9 | 206,490.00 | Intermountain Fair Housing Council, 310 North 5th Street, Boise, ID 83701-0913 | Shirleane Hayes, (208) 383-0695 | 10 | 206,471.79
Fair Housing Council of Oregon, 1020 SW Taylor Street, Ste. 700, Portland, OR 97205 | Peggy Micah, (503) 223-8295 | 10 | 206,471.79.
Education and Outreach Initiative/Partnership With Historically Black Colleges and Universities
Howard University School of Law, 2400 6th Street, NW., Washington DC 20059 | Prof. Tamar Meekins, Clinic Dir., ph. 202-806-8082, fx. 202-806-8436 | 3 | 996,762.00
Secretary Initiated Projects/Contracts
Project for Training and Technical Assistance Guidance—Contract
Bearing Point, Inc. (Formerly KPMG Consulting), 22454 Three Notch Road, 2nd Floor, Lexington Park, MD 20653 | Wendy F. Carr, 703-747-4230 | 3 | 1,400,000.00

[FR Doc. E6-14842 Filed 9-7-06; 8:45 am]

BILLING CODE 4210-67-P